DEPARTMENT OF THE TREASURY

Office of Foreign Assets Control

Notice of OFAC Sanctions Actions

AGENCY: Office of Foreign Assets Control, Treasury.

ACTION: Notice.

SUMMARY: The Department of the Treasury's Office of Foreign Assets Control (OFAC) is publishing the names of one or more persons that have been placed on OFAC's Specially Designated Nationals and Blocked Persons List based on OFAC's determination that one or more applicable legal criteria were satisfied. All property and interests in property subject to U.S. jurisdiction of these persons are blocked, and U.S. persons are generally prohibited from engaging in transactions with them.

DATES: See SUPPLEMENTARY INFORMATION section.

FOR FURTHER INFORMATION CONTACT: OFAC: Associate Director for Global Targeting, tel.: 202-622-2420; Assistant Director for Sanctions Compliance & Evaluation, tel.: 202-622-2490; Assistant Director for Licensing, tel.: 202-622-2480; Assistant Director for Regulatory Affairs, tel.: 202-622-4855; or the Department of the Treasury's Office of the General Counsel: Office of the Chief Counsel (Foreign Assets Control), tel.: 202-622-2410.

SUPPLEMENTARY INFORMATION:

Electronic Availability

The Specially Designated Nationals and Blocked Persons List and additional information concerning OFAC sanctions programs are available on OFAC's website (https://www.treasury.gov/ofac).

Notice of OFAC Actions

On February 15, 2019, OFAC determined that the property and interests in property subject to U.S. jurisdiction of the following persons are blocked under the relevant sanctions authorities listed below.

Individuals

1. CRISTOPHER FIGUERA, Manuel Ricardo, Caracas, Capital District, Venezuela; DOB 08 Nov 1963; Gender Male; Cedula No. 8375799 (Venezuela) (individual) [VENEZUELA].

Designated pursuant to section 1(a)(ii)(C) of Executive Order 13692 of March 8, 2015, “Blocking Property and Suspending Entry of Certain Persons Contributing to the Situation in Venezuela” (E.O. 13692), as amended by Executive Order 13857 of January 25, 2019, “Taking Additional Steps To Address the National Emergency With Respect to Venezuela,” (E.O. 13857) for being a current or former official of the Government of Venezuela.

2. RODRIGUEZ MUCURA, Hildemaro Jose (a.k.a. MUCURA, Ildemaro Jose; a.k.a. RODRIGUEZ MUCURA, Ildemaro Jose), Caracas, Capital District, Venezuela; DOB 06 Jun 1977; Gender Male; Cedula No. 13432397 (Venezuela) (individual) [VENEZUELA].

Designated pursuant to section 1(a)(ii)(C) of E.O. 13692, as amended by E.O. 13857, for being a current or former official of the Government of Venezuela.

3. HERNANDEZ DALA, Ivan Rafael (a.k.a. HERNANDEZ DALA, Ivan; a.k.a. HERNANDEZ, Ivan), Caracas, Capital District, Venezuela; DOB 18 May 1966; citizen Venezuela; Gender Male; Cedula No. 6961149 (Venezuela) (individual) [VENEZUELA].

Designated pursuant to section 1(a)(ii)(C) of E.O. 13692, as amended by E.O. 13857, for being a current or former official of the Government of Venezuela.

4. BASTARDO MENDOZA, Rafael Enrique (a.k.a. BASTARDO, Rafael), Caracas, Capital District, Venezuela; DOB 22 Sep 1978; citizen Venezuela; Gender Male; Cedula No. 14335819 (Venezuela) (individual) [VENEZUELA].

Designated pursuant to section 1(a)(ii)(C) of E.O. 13692, as amended by E.O. 13857, for being a current or former official of the Government of Venezuela.

5. QUEVEDO FERNANDEZ, Manuel Salvador (a.k.a. QUEVEDO, Manuel), Capital District, Venezuela; DOB 01 Mar 1967; citizen Venezuela; Gender Male; Cedula No. 9705800 (Venezuela); Passport D0131415 (Venezuela); alt. Passport 040236069 (Venezuela); alt. Passport 6252002 (Venezuela) (individual) [VENEZUELA].

Designated pursuant to section 1(a)(ii)(C) of E.O. 13692, as amended by E.O. 13857, for being a current or former official of the Government of Venezuela.

Dated: February 15, 2019.
Andrea Gacki,
Director, Office of Foreign Assets Control.

[FR Doc. 2019-04933 Filed 3-15-19; 8:45 am]

BILLING CODE 4810-AL-P